SECURITIES AND EXCHANGE COMMISSION

[Release No. 34-60436; File No. SR-NYSE-2009-77]

Self-Regulatory Organizations; Notice of Filing and Immediate Effectiveness of Proposed Rule Change by New York Stock Exchange LLC To Modify Certain Equity Transaction Fees and Rebates

August 5, 2009.

Pursuant to Section 19(b)(1) ¹ of the Securities Exchange Act of 1934 (the “Act”),² and Rule 19b-4 thereunder,³ notice is hereby given that on July 30, 2009, New York Stock Exchange LLC (the “NYSE” or the “Exchange”) filed with the Securities and Exchange Commission (the “Commission”) the proposed rule changes as described in Items I, II and III below, which items have been prepared by the Exchange. The Commission is publishing this notice to solicit comments on the proposed rule changes from interested persons.

¹ 15 U.S.C. 78s(b)(1).

² 15 U.S.C. 78a et seq.

³ 17 CFR 240.19b-4.

I. Self-Regulatory Organization's Statement of the Terms of Substance of the Proposed Rule Change

The Exchange proposes to make a number of changes to its schedule of equity transaction fees and rebates, with effect from August 1, 2009. The text of the proposed rule change is available on the Exchange's Web site (http://www.nyse.com), at the Exchange's Office of the Secretary, and at the Commission's Public Reference Room.

II. Self-Regulatory Organization's Statement of the Purpose of, and Statutory Basis for, the Proposed Rule Change

In its filing with the Commission, the self-regulatory organization included statements concerning the purpose of and basis for the proposed rule change and discussed any comments it received on the proposed rule change. The text of these statements may be examined at the places specified in Item IV below. The NYSE has prepared summaries, set forth in Sections A, B and C below, of the most significant aspects of such statements.

A. Self-Regulatory Organization's Statement of the Purpose of, and Statutory Basis for, the Proposed Rule Change

1. Purpose

The Exchange proposes to make a number of changes to its schedule of equity transaction fees, with effect from August 1, 2009.

The following are the proposed changes:

• The Exchange is introducing a new pricing tier of $0.0017 per share when taking liquidity from the NYSE for member organizations which have an average daily trading volume (“ADV”) on the NYSE in the applicable month of at least 130 million shares, including (i) providing liquidity of an ADV of at least 30 million shares and (ii) an ADV of at least 15 million shares total in market at-the-close (“MOC”) and limit at-the-close (“LOC”) orders. Member organizations meeting these trading volume criteria will also qualify for a new pricing tier for MOC and LOC orders of $0.0006 per share. For transactions in stocks with a trading price below $1.00, member organizations that qualify for the new pricing tier will be charged (i) the lesser of 0.3% of the total dollar value of the transaction and $0.0017 per share when taking liquidity from the Exchange and (ii) the lesser of 0.3% of the total dollar value of the transaction or $0.0006 per share for MOC and LOC orders. The Exchange is setting the volume requirements for these pricing tiers at the specified levels for August in expectation of the typical cyclical reduction of trading activity in that month and intends to increase the volume requirements in September.

• The transaction fee per share for market at-the-close and limit at-the-close orders will increase from $.0005 to $0.0007 per share. The $120 trading fee cap per transaction for MOC and LOC orders will be eliminated.

• Executions at the open, which are currently free of charge, will be subject to a transaction fee of $0.0005 per share, subject to a monthly cap of $10,000 per member organization. For transactions in stocks with a trading price below $1.00, member will be charged the lesser of 0.3% of the total dollar value of the transaction and $0.0005 per share for executions at the open, subject to the $10,000 monthly cap. Executions at the open will continue to be free of charge for DMMs.

• The transaction fee per share for executions of odd-lots and the odd-lot portions of partial round lots will increase from $0.0005 per share to $0.0018 per share.

• The rebate per share paid to Designated Market Makers for executions of odd-lots and the odd-lot portions of partial round lots will be increased from $0.0004 per share to $0.0011 per share.

• The per share charge for transactions in stocks with a price of less than $1.00, which is the lesser of 0.3% of the dollar value of the transaction or $0.0018 per share, is being moved to the end of the applicable section of the Price List, as it is a more logical placement for it. The fee itself is not changing.

2. Statutory Basis

The Exchange believes that the proposed rule change is consistent with the objectives of Section 6 ⁴ of the Act in general and furthers the objectives of Section 6(b)(4) ⁵ in particular, in that it is designed to provide for the equitable allocation of reasonable dues, fees and other charges among its members and other persons using its facilities. The Exchange believes that the proposal does not constitute an inequitable allocation of dues, fees and other charges as all member organizations will be subject to the same fee structure.

⁴ 15 U.S.C. 78f.

⁵ 15 U.S.C. 78f(b)(4).

B. Self-Regulatory Organization's Statement on Burden on Competition

The Exchange does not believe that the proposed rule change will impose any burden on competition that is not necessary or appropriate in furtherance of the purpose of the Act.

C. Self-Regulatory Organization's Statement on Comments on the Proposed Rule Change Received From Members, Participants, or Others

Written comments were neither solicited nor received.

III. Date of Effectiveness of the Proposed Rule Change and Timing for Commission Action

The foregoing rule change is effective upon filing pursuant to Section 19(b)(3)(A) ⁶ of the Act and Rule 19b-4(f)(2) ⁷ thereunder.

⁶ 15 U.S.C. 78s(b)(3)(A).

⁷ 17 CFR 240.19b-4(f)(2).

At any time within 60 days of the filing of the proposed rule change, the Commission may summarily abrogate such rule change if it appears to the Commission that such action is necessary or appropriate in the public interest, for the protection of investors, or otherwise in furtherance of the purposes of the Act.

IV. Solicitation of Comments

Interested persons are invited to submit written data, views, and arguments concerning the foregoing, including whether the proposed rule change is consistent with the Act. Comments may be submitted by any of the following methods:

Electronic Comments

• Use the Commission's Internet comment form (http://www.sec.gov/rules/sro.shtml); or

• Send an e-mail to rule-comments@sec.gov. Please include File Number SR-NYSE-2009-77 on the subject line.

Paper Comments

• Send paper comments in triplicate to Elizabeth M. Murphy, Secretary, Securities and Exchange Commission, 100 F Street, NE., Washington, DC 20549-1090.

All submissions should refer to File Number SR-NYSE-2009-77. This file number should be included on the subject line if e-mail is used. To help the Commission process and review your comments more efficiently, please use only one method. The Commission will post all comments on the Commission's Internet Web site (http://www.sec.gov/rules/sro.shtml). Copies of the submission, all subsequent amendments, all written statements with respect to the proposed rule change that are filed with the Commission, and all written communications relating to the proposed rule change between the Commission and any person, other than those that may be withheld from the public in accordance with the provisions of 5 U.S.C. 552, will be available for inspection and copying in the Commission's Public Reference Room on official business days between the hours of 10 a.m. and 3 p.m. Copies of such filing also will be available for inspection and copying at the principal office of the Exchange. All comments received will be posted without change; the Commission does not edit personal identifying information from submissions. You should submit only information that you wish to make available publicly. All submissions should refer to File Number SR-NYSE-2009-77 and should be submitted on or before September 1, 2009.

For the Commission, by the Division of Trading and Markets, pursuant to delegated authority.⁸
⁸ 17 CFR 200.30-3(a)(12).
Florence E. Harmon,
Deputy Secretary.

[FR Doc. E9-19184 Filed 8-10-09; 8:45 am]

BILLING CODE 8010-01-P